ENVIRONMENTAL PROTECTION AGENCY

[FRL—9778-2]

Notification of a Public Meeting of the Chartered Science Advisory Board

AGENCY: Environmental Protection Agency (EPA).

ACTION: Notice.

SUMMARY: The Environmental Protection Agency (EPA) Science Advisory Board (SAB) Staff Office announces a public meeting of the chartered SAB to: (1) Receive an update briefing on the EPA's Office of Research and Development's (ORD) implementation of strategic research plans; (2) conduct quality reviews of three draft SAB reports [on the use of computational toxicology (CompTox) to advance risk assessment; on EPA's retrospective study of the costs of EPA regulations; and on methodologies for estimating air emissions for broiler animal feeding operations and for lagoons and basins at swine and dairy animal feeding operations]; and (3) to discuss information provided in the agency's regulatory agenda, specifically planned actions and their supporting science.

DATES: The public meeting will be held on Thursday, March 7, 2013, from 10:30 a.m. to 6:00 p.m. and Friday, March 8, 2013, from 8:00 a.m. to 1:00 p.m. (Eastern Daylight Time).

ADDRESSES: The meeting will be held at the Washington Marriott, 1221 22nd Street NW., Washington, DC, 20037.

FOR FURTHER INFORMATION CONTACT: Any member of the public who wants further information concerning the meeting may contact Dr. Angela Nugent, Designated Federal Officer (DFO), EPA Science Advisory Board (1400R), U.S. Environmental Protection Agency, 1200 Pennsylvania Avenue NW., Washington, DC 20460; via telephone/voice mail (202) 564-2218, fax (202) 565-2098; or email at nugent.angela@epa.gov. General information concerning the SAB can be found on the EPA Web site at http://www.epa.gov/sab.

SUPPLEMENTARY INFORMATION:

Background

The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

Briefing on Implementation of ORD Strategic Research Plans

The SAB and ORD's Board of Scientific Councilors (BOSC) provided a joint report to the Administrator in September 2012 entitled Implementation of ORD Strategic Research Plans: A Joint Report of the Science Advisory Board and ORD Board of Scientific Counselors (EPA-SAB-12-012). ORD will provide a briefing to update SAB members on recent significant ORD activities to implement the recommendations in the ORD-BOSC report, available on the SAB Web site at http://yosemite.epa.gov/sab/sabproduct.nsf/3822EB089FCCB18D85257A8700800679/$File/EPA-SAB-12-012-unsigned.pdf.

Draft SAB Report on the Use of CompTox To Advance Risk Assessment

The chartered SAB will conduct a quality review of a draft report providing advice to assist the EPA in advancing the application of ORD's CompTox research for human health risk assessment to meet the agency's programmatic needs. The SAB undertook this initiative to identify applications for outputs from the CompTox Research Program, barriers to their use, and strategies for overcoming those barriers. The CompTox Research Program conducts research that integrates advances in molecular biology, chemistry and innovative computer science to more effectively and efficiently rank chemicals based on risks. The goal of the CompTox Research Program is to provide high-throughput chemical screening data and decision support tools for assessing chemical exposure, hazard, and risk to human health and the environment. Information about this advisory activity can be found on the Web at: http://yosemite.epa.gov/sab/sabproduct.nsf/fedrgstr_activites/CompTox%20data%20in%20RA?OpenDocument.

Draft SAB Report on EPA's Retrospective Study of the Costs of EPA Regulations

The chartered SAB will conduct a quality review of a draft report providing a review of the EPA's retrospective study of the costs of EPA regulations. The EPA conducts benefit-cost analyses of its rules and regulations and strives to use the best available information to conduct its analyses. Benefit-cost analyses are by definition predictive, relying on ex ante or forecasted information. To improve future benefit-cost analyses, it is important to learn how well EPA's estimates compare with actual (ex post) costs and, if they differ substantially, to understand why. EPA's National Center for Environmental Economics prepared a series of case studies attempting to assess compliance costs retrospectively that, if successful, could help identify reasons for any systematic differences between ex ante and ex post cost estimates. The EPA requested the SAB's review of its approach to assessing ex post costs as detailed in a draft paper entitled “Retrospective Study of the Costs of EPA Regulations: An Interim Report” (March 2012). Information about this advisory activity can be found on the Web at: http://yosemite.epa.gov/sab/sabproduct.nsf/fedrgstr_activites/Retrospective%20Cost%20Study?OpenDocument.

Draft Report on EPA's Emissions Estimation Methodologies (EEMs) From Broiler Animal Feeding Operations and From Lagoons and Basins at Swine and Dairy Animal Feeding Operations

The chartered SAB will conduct a quality review of a draft report providing review of EPA's draft methodologies for estimating air emissions from animal feeding operations (AFOs). The EPA developed the draft methodologies to address commitments in a voluntary air compliance consent agreement signed in 2005 between the agency and nearly 14,000 broiler, dairy, egg layer and swine AFO operations. The goals of the agreement are to reduce air pollution, monitor AFO emissions, promote a national consensus on methodologies for estimating emissions from AFOs, and ensure compliance with the requirements of the Clean Air Act, the Comprehensive Environmental Response, Compensation, and Liability Act and the Emergency Planning and Community Right-to-Know Act. The EPA's Office of Air and Radiation has requested the SAB review. Information about this advisory activity can be found on the Web at: http://yosemite.epa.gov/sab/sabproduct.nsf/fedrgstr_activites/AFO-AEEM?OpenDocument.

Discussion of Information Provided in the Agency's Semiannual Regulatory Agenda

The EPA has recently underscored the need to routinely inform the SAB about proposed and planned agency actions that have a scientific or technical basis. Accordingly, the agency provided notice to the SAB that the Office of Management and Budget published the “Unified (Regulatory) Agenda” on the Web on December 21, 2012 (http://www.reginfo.gov/public/). The SAB will discuss whether it should provide advice and comment on the adequacy of the scientific and technical basis for EPA actions included in the Agenda.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the March 7-8, 2013, meeting should contact Dr. Angela Nugent, DFO, in writing (preferably via email) at the contact information noted above by February 27, 2013. Written Statements: Written statements for the March 7-8, 2013, meeting should be received in the SAB Staff Office by February 27, 2013, so that the information may be made available to the SAB for its consideration prior to this meeting. Written statements should be supplied to the DFO in the following formats: either an electronic copy (preferred) via email (acceptable file format: Adobe Acrobat PDF, MS Word, WordPerfect, MS PowerPoint, or Rich Text files in IBM-PC/Windows 98/2000/XP format) or in hard copy with original signature. Submitters are asked to provide electronic versions of each document submitted with and without signatures, because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Nugent at the phone number or email address noted above, preferably at least ten days prior to the meeting, to give the EPA as much time as possible to process your request.

Dated: January 30, 2013.
Thomas H. Brennan,
Deputy Director, EPA Science Advisory Board Staff Office.

[FR Doc. 2013-02925 Filed 2-8-13; 8:45 am]

BILLING CODE 6560-50-P